DEPARTMENT OF ENERGY

Federal Energy Regulatory Commission

Combined Notice of Filings #1

Take notice that the Commission received the following exempt wholesale generator filings:

Docket Numbers: EG18-110-000.

Applicants: Minco IV & V Interconnection, LLC.

Description: Notice of Self-Certification of Exempt Wholesale Generator Status of Minco IV & V Interconnection, LLC.

Filed Date: 7/26/18.

Accession Number: 20180726-5098.

Comments Due: 5 p.m. ET 8/16/18.

Docket Numbers: EG18-111-000.

Applicants: OCI Lamesa Solar II LLC.

Description: Self-Certification of EG or FC of OCI Lamesa Solar II LLC.

Filed Date: 7/26/18.

Accession Number: 20180726-5101.

Comments Due: 5 p.m. ET 8/16/18.

Take notice that the Commission received the following electric rate filings:

Docket Numbers: ER16-1257-001; ER12-1504-004; ER16-355-002; ER16-141-004; ER12-1946-010; ER15-255-003; ER10-2566-009; ER10-1333-010; ER13-2387-004; ER10-2034-006; ER10-2032-007; ER10-2033-007; ER13-2322-005; ER15-190-007; ER17-543-004; ER17-2-002; ER10-1328-003; ER12-1502-004; ER10-2567-004; ER12-2313-004; ER10-1330-006; ER17-361-002; ER17-360-002; ER17-362-002; ER16-61-003; ER16-63-003; ER17-2336-004; ER10-1331-003; ER16-64-003; ER10-1332-003; ER10-2522-004; ER17-539-001; ER17-540-001.

Applicants: Caprock Solar I LLC, Cimarron Windpower II, LLC, Colonial Eagle Solar, LLC, Conetoe II Solar, LLC, Duke Energy Beckjord, LLC, Duke Energy Beckjord Storage, LLC, Duke Energy Carolinas, LLC, Duke Energy Commercial Enterprises, Inc., Duke Energy Florida, LLC, Duke Energy Indiana, LLC, Duke Energy Kentucky, Inc., Duke Energy Ohio, Inc., Duke Energy Progress, Inc., Duke Energy Renewable Services, LLC, Duke Energy SAM, LLC, Frontier Windpower, LLC, Happy Jack Windpower, LLC, Ironwood Windpower, LLC, Kit Carson Windpower, LLC, Laurel Hill Wind Energy, LLC, North Allegheny Wind, LLC, Pumpjack Solar I, LLC, Rio Bravo Solar I, LLC, Rio Bravo Solar II, LLC, Seville Solar One LLC, Seville Solar Two LLC, Shoreham Solar Commons LLC, Silver Sage Windpower, LLC, Tallbear Seville LLC, Three Buttes Windpower, LLC, Top of the World Wind Energy, LLC, Wildwood Solar I, LLC, Wildwood Solar II, LLC.

Description: Notice of Change in Status of the Duke MBR Sellers.

Filed Date: 7/25/18.

Accession Number: 20180725-5273.

Comments Due: 5 p.m. ET 8/15/18.

Docket Numbers: ER18-1977-001.

Applicants: Brantley Farm Solar, LLC.

Description: Tariff Amendment: Amendment to 1 to be effective 8/18/2018.

Filed Date: 7/26/18.

Accession Number: 20180726-5000.

Comments Due: 5 p.m. ET 8/16/18.

Docket Numbers: ER18-2066-000.

Applicants: Minco Wind IV, LLC.

Description: Baseline eTariff Filing: Minco Wind IV, LLC Application for Market-Based Rates to be effective 9/1/2018.

Filed Date: 7/26/18.

Accession Number: 20180726-5116.

Comments Due: 5 p.m. ET 8/16/18.

Docket Numbers: ER18-2067-000.

Applicants: Minco Wind V, LLC.

Description: Baseline eTariff Filing: Minco Wind V, LLC Application for Market-Based Rates to be effective 10/1/2018.

Filed Date: 7/26/18.

Accession Number: 20180726-5117.

Comments Due: 5 p.m. ET 8/16/18.

Docket Numbers: ER18-2068-000.

Applicants: PJM Interconnection, L.L.C.

Description: § 205(d) Rate Filing: Request for Waiver Effective July 27, 2018 to be effective 12/31/9998.

Filed Date: 7/26/18.

Accession Number: 20180726-5131.

Comments Due: 5 p.m. ET 8/16/18.

Docket Numbers: ER18-2069-000.

Applicants: Alliant Energy Corporate Services, Inc.

Description: § 205(d) Rate Filing: AECS Updated Rate Schedule 2 to be effective 9/30/2018.

Filed Date: 7/26/18.

Accession Number: 20180726-5134.

Comments Due: 5 p.m. ET 8/16/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 26, 2018.
Nathaniel J. Davis, Sr.,
Deputy Secretary.

[FR Doc. 2018-16632 Filed 8-2-18; 8:45 am]

BILLING CODE 6717-01-P